FEDERAL MARITIME COMMISSION

Ocean Transportation Intermediary License; Terminations

The Federal Maritime Commission hereby gives notice that the following ocean transportation intermediary licenses have been terminated pursuant to section 19 of the Shipping Act of 1984 (46 U.S.C. app. 1718) and the regulations of the Commission pertaining to the licensing of Ocean Transportation Intermediaries, effective on the corresponding dates shown below:

License Number: 4103F

Name: America Worldwide, Inc.

Address: P.O. Box 51180, Phoenix, AZ, 85076-1180

Date Revoked: June 16, 2000.

Reason: Failed to maintain a valid bond.

License Number: 3865F

Name: Basic Supply Lines, Inc.

Address: 16303 Larch Way, Lynnwood, WA 98037

Date Revoked: June 22, 2000.

Reason: Failed to maintain a valid bond.

License Number: 13173N

Name: Bestway International, Inc.

Address: 182-30 150th Road, Ste. 105, Jamaica, NY 11413

Date Revoked: July 8, 2000.

Reason: Failed to maintain a valid bond.

License Number: 16363N

Name: Capitol Transportation, Inc.

Address: P.O. Box 363008, San Juan, P.R. 00936-1361

Date Revoked: May 14, 2000.

Reason: Failed to maintain a valid bond.

License Number: 16153F

Name: Cosmo Ocean Freight, Ltd.

Address: 146-22 Guy Brewer Blvd., Jamaica, NY 11434

Date Revoked: May 19, 2000.

Reason: Failed to maintain a valid bond.

License Number: 9941N

Name: CTM International, Inc.

Address: 14523 226th Street, Springfield Gardens, NY 11413-3535

Date Revoked: June 14, 2000.

Reason: Failed to maintain a valid bond.

License Number: 15019N

Name: Delta Cargo Corporation

Address: 2047 NW 79th Avenue, Miami, FL 33122

Date Revoked: June 17, 2000.

Reason: Failed to maintain a valid bond.

License Number: 15879N

Name: Dexin International Forwarding, Inc.

Address: 100 N Citrus Street, Ste. 506, W. Covina, CA 91791

Date Revoked: June 19, 2000.

Reason: Failed to maintain a valid bond.

License Number: 11992N

Name: DMUSA Inc. d/b/a Damco Maritime

Address: Two Hudson Place, Third Floor, Hoboken, NJ 07030

Date Revoked: June 11, 2000.

Reason: Failed to maintain a valid bond.

License Number: 3223F

Name: F.S.L. Transport, Inc.

Address: 326 Smith Street, Keasbey, NJ 08832

Date Revoked: April 22, 2000

Reason: Failed to maintain a valid bond.

License Number: 16148F

Name: Four Winds International Group, Inc.

Address: 1500 S.W. First Avenue, Ste. 850, Portland, OR 97201

Date Revoked: June 1, 2000.

Reason: Failed to maintain a valid bond.

License Number: 2181

Name: Forwarding Systems International, Division of Albert Rebel & Associates, Inc. d/b/a FSI Container Line

Address: 166 University Parkway, Pomona, CA 91768

Date Revoked: January 21, 2000.

Reason: Failed to maintain a valid bond.

License Number: 16115N

Name: Golden Gate Shipping, Inc. d/b/a The Love Box Company

Address: 405 North Oak Street, Inglewood, CA 90302

Date Revoked: April 20, 2000.

Reason: Failed to maintain a valid bond.

License Number: 9F

Name: Heemsoth-Kerner Corporation

Address: 700 Rockaway Turnpike, Ste. 203, Lawrence, NY 11559

Date Revoked: May 10, 2000.

Reason: Failed to maintain a valid bond.

License Number: 0435F

Name: Hirshbach & Smith, Inc.

Address: One World Trade Center, Ste. 1407, New York, NY 10048

Date Revoked: July 4, 2000.

Reason: Failed to maintain a valid bond.

License Number: 3622NF

Name: Horizon Shipping, Inc.

Address: 9830-C East Freeway, Houston, TX 77029

Date Revoked: April 29, 2000

Reason: Failed to maintain a valid bond.

License Number: 3200

Name: International Freight Transport Inc.

Address: 147 Richmond Street, El Segundo, CA 90245

Date Revoked: June 28, 2000.

Reason: Failed to maintain a valid bond.

License Number: 12562N

Name: International Shipping Services Corp., Address: 9505 Hull Street Road, Suite C, Richmond, VA 23236

Date Revoked: June 14, 2000.

Reason: Failed to maintain a valid bond.

License Number: 14011N

Name: Inverfreight, Inc.

Address: 5901 NW 151st Street, Suite 102, Miami Lakes, FL 33014

Date Revoked: June 17, 2000.

Reason: Failed to maintain a valid bond.

License Number: 4499F

Name: Linda Lee Lambert d/b/a Sterling International Freight Forwarders

Address: 2351 Jay Street, New Orleans, LA 70122

Date Revoked: June 7, 2000.

Reason: Failed to maintain a valid bond.

License Number: 12669N

Name: Oceanic Cargo Services, Inc.

Address: 167-21 Porter Road, Jamaica, NY 11434

Date Revoked: June 21, 2000.

Reason: Failed to maintain a valid bond.

License Number: 1379F

Name: Phil Patterson, Inc.

Address: 1209 Harney Street, Suite 250, Omaha, NE 68102

Date Revoked: June 7, 2000.

Reason: Failed to maintain a valid bond.

License Number: 13903N

Name: Quantum International Forwarding Ltd.

Address: 150-15 183rd Street, Jamaica, NY 11413

Date Revoked: June 30, 2000.

Reason: Failed to maintain a valid bond.

License Number: 12134N

Name: Sea Express Lines, Inc. d/b/a Sea Express Agencies (SEA)

Address: 2605 Cabover Drive, Suite 11, Hanover, MD 21076

Date Revoked: April 19, 2000.

Reason: Failed to maintain a valid bond.

License Number: 3718

Name: Sunship International Inc.

Address: 6815 West 95th Street, Suite 1NE, Oak Lawn, IL 60453

Date Revoked: June 30, 2000.

Reason: Failed to maintain a valid bond.

License Number: 16075N

Name: Trans-Group International Corporation

Address: 155-06 South Conduit Avenue, #203, Jamaica, NY 11434

Date Revoked: June 30, 2000.

Reason: Failed to maintain a valid bond.

License Number: 4119F

Name: Trex Corporation

Address: 8353 NW 68th Street, Miami, FL 33166

Date Revoked: May 17, 2000.

Reason: Failed to maintain a valid bond.

License Number: 4302F

Name: United Shipping Inc.

Address: 28 E Jackson Blvd., Suite 1103, Chicago, IL 60604

Date Revoked: June 1, 2000.

Reason: Failed to maintain a valid bond.

License Number: 12895N

Name: United Trans-Trade, Inc.

Address: 8 Hartland Commons Road, North Brunswick, NJ 08902

Date Revoked: June 3, 2000.

Reason: Failed to maintain a valid bond.

Dated: August 4, 2000.
Sandra L. Kusumoto,
Director, Bureau of Consumer Complaints and Licensing.

[FR Doc. 00-20145 Filed 8-8-00; 8:45 am]

BILLING CODE 6730-01-P